ENVIRONMENTAL PROTECTION AGENCY

40 CFR Part 52

[EPA-R05-OAR-2013-0273; FRL-9914-97-Region 5]

Approval and Promulgation of Air Quality Implementation Plans; Illinois; Amendments to Gasoline Volatility Standards and Motor Vehicle Refinishing Requirements for Illinois

AGENCY: Environmental Protection Agency (EPA).

ACTION: Direct final rule.

SUMMARY: The Environmental Protection Agency (EPA) is approving state implementation plan (SIP) revisions submitted by the Illinois Environmental Protection Agency (IEPA) on March 19, 2013, concerning the state's gasoline volatility standards. The SIP revisions also include amendments to the state's motor vehicle refinishing regulations to allow for the alternative use of a high volume, low pressure (HVLP) equivalent coating applicator in motor vehicle refinishing operations, and repeal a registration program under these regulations that overlaps with Federal registration requirements.

DATES: This direct final rule is effective December 5, 2014, unless EPA receives adverse comments by November 5, 2014. If adverse comments are received, EPA will publish a timely withdrawal of the direct final rule in the Federal Register informing the public that the rule will not take effect.

ADDRESSES: Submit your comments, identified by Docket ID No. EPA-R05-OAR-2013-0273, by one of the following methods:

1. www.regulations.gov: Follow the on-line instructions for submitting comments.

2. Email: blakley.pamela@epa.gov.

3. Fax: (312) 692-2450.

4. Mail: Pamela Blakley, Chief, Control Strategies Section, Air Programs Branch (AR-18J), U.S. Environmental Protection Agency, 77 West Jackson Boulevard, Chicago, Illinois 60604.

5. Hand Delivery: Pamela Blakley, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2013-0273. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Francisco J. Acevedo, Mobile Source Program Manager, at (312) 886-6061 before visiting the Region 5 office.

FOR FURTHER INFORMATION CONTACT: Francisco J. Acevedo, Mobile Source Program Manager, Control Strategies Section, Air Programs Branch (AR-18J), Environmental Protection Agency, Region 5, 77 West Jackson Boulevard, Chicago, Illinois 60604, (312) 886-6061, acevedo.francisco@epa.gov.

SUPPLEMENTARY INFORMATION: Throughout this document whenever “we,” “us,” or “our” is used, we mean EPA. This supplementary information section is arranged as follows:

I. What is the background for the gasoline volatility standards portion of this action?

II. What changes have been made to Illinois' gasoline volatility standards?

III. What is the background for the motor vehicle refinishing standards portion of this action?

IV. What changes have been made to Illinois' motor vehicle refinishing standards?

V. What is EPA's analysis of the state's submittal?

VI. What action is EPA taking?

VII. Statutory and Executive Order Reviews.

I. What is the background for the gasoline volatility standards portion of this action?

Under section 211(c) of the Clean Air Act (CAA), EPA promulgated regulations on March 22, 1989 (54 FR 11868) that set maximum limits for the Reid vapor pressure (RVP) of gasoline sold during the regulatory control periods that were established on a state-by-state basis in the final rule. The regulatory control periods addressed the portion of the year when peak ozone concentrations were expected. Peak ozone concentrations are expected during the summertime. These regulations constituted Phase I of a two phase nationwide program, which was designed to reduce the volatility of commercial gasoline during the high ozone season. Depending on the state and month, gasoline RVP was not to exceed 10.5 pounds per square inch (psi), 9.5 psi, or 9.0 psi. Phase I was applicable to calendar years 1989 through 1991. On June 11, 1990 (55 FR 23658), EPA promulgated more stringent volatility controls as Phase II of the volatility control program. These requirements established maximum RVP standards of 9.0 psi or 7.8 psi (depending on the state, the month, and the area's initial ozone attainment designation with respect to the 1-hour ozone national ambient air quality standards (NAAQS)). Phase II is applicable to 1992 and subsequent years.

The 1990 CAA Amendments established a new section, 211(h), to address fuel volatility. Section 211(h)(1) requires EPA to promulgate regulations making it unlawful to sell, offer for sale, dispense, supply, offer for supply, transport, or introduce into commerce gasoline with an RVP level in excess of 9.0 psi during the high ozone season. Section 211(h)(2) prohibits EPA from establishing a volatility standard more stringent than 9.0 psi in an attainment area, except that the Agency may impose a lower (more stringent) standard in any former ozone nonattainment area (NAA) redesignated to attainment.

On December 12, 1991 (56 FR 64704), EPA modified the Phase II volatility regulations to be consistent with section 211(h) of the CAA. The modified regulations prohibited the sale of gasoline with an RVP above 9.0 psi in all areas designated attainment for ozone, beginning in 1992. For areas designated as nonattainment, the regulations retained the original Phase II standards published on June 11, 1990 (55 FR 23658), which included the 7.8 psi ozone season limitation for certain areas.

Section 211(k) of the CAA requires the use of reformulated gasoline (RFG) in the nine ozone NAAs having a 1980 population in excess of 250,000 and having the highest ozone design value during the period 1987 through 1989. The Chicago ozone NAA was designated as one of these areas. See 40 CFR 80.70(f). The use of RFG was required in the Chicago ozone NAA beginning in 1995 when Phase I of the RFG program went into effect. Phase II of the RFG program went into effect in 2000. In addition to these areas which are required to market RFG, state Governors can petition EPA for the inclusion of other NAAs in the RFG program. Accordingly, the State of Illinois requested EPA to extend the requirement for the sale of RFG for the Illinois portion of the Metro-East St. Louis ozone NAA in July 2006 with the program becoming effective in July 2007.

Illinois enacted state specific limits to address the summertime volatility of gasoline through regulations at 35 Ill. Adm. Code Section 215.585 for the Illinois ozone attainment area, Section 218.585 for the Chicago ozone NAA, and Section 219.585 for the Metro-East St. Louis ozone NAA.

On April 6, 1990, and May 4, 1990, Illinois submitted to EPA a regulation which reduced the maximum allowable volatility for gasoline sold in Illinois during July and August 1990 to 9.5 psi RVP. EPA approved this regulation on July 18, 1990 (55 FR 29200). On January 10, 1991, the state adopted amendments further limiting the maximum allowable volatility for gasoline sold in Illinois during June 1 through September 15, 1991 to 9.0 psi RVP.¹ On July 25, 1991 and September 9, 1993 the state adopted changes to Illinois' volatility regulations limiting the volatility of gasoline sold in the Chicago and Metro-East St. Louis ozone NAAs to 9.0 psi RVP and lengthened the regulatory control period to May 1 through September 15. EPA approved this regulation on September 9, 1994 (59 FR 46562). On October 25, 1994, Illinois submitted to EPA a regulation that reduces the maximum allowable volatility for gasoline sold in the Illinois portion of the Metro-East St. Louis ozone NAA, which includes Madison, Monroe, and St. Clair Counties, to 7.2 psi RVP during the summer control period. EPA approved this regulation on March 23, 1995 (60 FR 15233). On May 14, 1996, Illinois submitted an amendment to its RVP rule to EPA which adjusts the summer regulatory control period of the Metro-East St. Louis RVP program to make it consistent with the national RVP regulation. EPA approved this regulation on August 12, 1997 (62 FR 43100).

¹ EPA proposed to approve this regulation on June 7, 1991 (66 FR 26359). On April 28, 1992, IEPA requested that EPA place the SIP revision on the inactive status since IEPA would not be able to take emission reduction credits for an “early” reduction in RVP one year ahead of the Federal requirement. Consequently, EPA did not approve this regulation.

II. What changes have been made to Illinois' gasoline volatility standards?

The State of Illinois has repealed its gasoline volatility standards at 35 Ill. Adm. Code Section 215.585 for the state's ozone attainment area, Section 218.585 for the Chicago ozone NAA, and Section 219.585 for the Metro-East St. Louis ozone NAA. The state gasoline volatility regulations have essentially been superseded by Federal regulations promulgated under Section 211(c) and later under Sections 211(h) and 211(k) of the CAA. For this reason and to relieve the administrative burden associated with the development of waivers during periods of fuel supply shortages, the Illinois Pollution Control Board repealed the state regulations. The Board also approved clean-up amendments to 35 Ill. Adm. Code Parts 211, 215, 218, and 219 to update references and to be consistent with the repeal of the state gasoline volatility standards.

a. State Ozone Attainment Area

35 Ill. Adm. Code Section 215.585 applied only to the year 1991 in the state's ozone attainment area and limited the RVP of gasoline sold, offered for sale, dispensed, supplied, offered for supply or transported for use in Illinois between June 1 and September 15 to 9.0 psi. Ethanol blend gasoline containing 9 to 10 percent ethanol by volume were allowed to have an RVP up to 10.0 psi.

Pursuant to Section 211(c) of the CAA, EPA adopted national gasoline volatility standards which set maximum RVP limits for gasoline sold during the May 1 to September 15 control period. See 40 CFR 80.27. Beginning in 1992, these regulations limited the RVP of gasoline sold in Illinois to 9.0 psi. These regulations also allowed an additional 1.0 psi for ethanol blend gasoline containing 9 to 10 percent ethanol by volume.

Since Section 215.585 was only in force in 1991, and the Federal RVP standards now apply to the attainment areas of the state, IEPA believes that there is no longer any need in maintaining the state gasoline volatility standard and the Illinois Pollution Control Board repealed this section.

b. Chicago Ozone Nonattainment Area

The state gasoline volatility standards affecting the Chicago ozone NAA are found at 35 Ill. Adm. Code 218.585. The Illinois portion of the Chicago ozone NAA includes Cook, DuPage, Kane, Lake, McHenry, and Will Counties and Aux Sable and Goose Lake Townships in Grundy County and Oswego Township in Kendall County. This regulation limits the RVP of gasoline sold, offered for sale, dispensed, supplied, offered for supply or transported for use in the Chicago ozone NAA area during May 1 through the September 15 control period to 9.0 psi. A 1.0 psi allowance is granted for ethanol blend gasoline containing 9 to 10 percent ethanol by volume. On September 9, 1994, EPA approved this regulation as part of the Illinois SIP. 59 FR 46562 (September 9, 1994).

As stated above, Section 211(k) of the CAA requires the use of RFG in the nine ozone NAAs having a 1980 population in excess of 250,000 and having the highest ozone design value during the period 1987 through 1989. The Chicago ozone NAA was designated as one of these areas. See 40 CFR 80.70(f). The use of RFG was required in the Chicago ozone NAA beginning in 1995 when Phase I of the RFG program went into effect. Phase II of the RFG program went into effect in 2000 and requires a 27.4 percent (averaging) reduction in summertime (May 1 through September 15) VOC emissions from RFG in VOC control region 2 areas (northern areas), which includes Chicago. Compliance with the RFG standards is measured by inputting specific gasoline characteristic parameters into a performance standards model known as the “complex model”. The fuel parameters used in the complex model include RVP, oxygen, sulfur, aromatics, olefins, benzene, and a percent of fuel evaporated at 200 and 300 degrees Fahrenheit (E200 and E300, respectively). The model evaluates the emissions from the RFG blend compared to the 27.4 percent reduction baseline. Although the RVP of the fuel is an important characteristic in determining the emissions from the fuel blend, the RFG standards do not establish a maximum volatility. Rather, a refiner or blender can vary the specific parameters as long as the resultant blend meets the overall emission reduction specification provided by the complex model. The result is an equivalent percentage reduction in VOC emissions as would be achieved if a fuel RVP of 6.7 psi was utilized. Even though the RFG requirements do not specifically establish an RVP limit, historical data indicates that RVP of RFG sold during the summertime (high ozone season) in the Chicago ozone NAA is considerably less than the RVP limits established in the Federal and state gasoline volatility standards, and has a range of averages from 6.7 to 7.2 psi, well below the maximum limits established in Section 218.585. Therefore, since the Federal RFG requirements are more stringent than the Chicago ozone NAA gasoline volatility regulations in Section 218.585, these regulations are no longer necessary.

The existence of the Chicago NAA gasoline volatility standards can also become an obstacle in times of emergency fuel shortages. In the event of a regional fuel shortage, Section 211(c)(4)(C) of the CAA allows EPA, with the concurrence of the Department of Energy, to temporarily waive fuel requirements in order that other fuel can be brought into the area and sold. EPA has issued two such emergency fuel waivers since 2005, one due to the impact of Hurricane Katrina, and a second due to damage caused by a severe storm at a Metro-East St. Louis area refinery. In these instances, EPA granted a short-term waiver from the RFG regulations, but due to the existence of the state Chicago NAA gasoline volatility standards, Illinois had to issue a provisional variance to the regulation in order for the EPA waiver to achieve its intended effect. Repealing the existing Chicago NAA gasoline volatility standards, which are less stringent than the RFG standards, would result in no loss of emissions reductions benefits, and in times of regional fuel supply shortages, would eliminate the RVP SIP waiver and provisional variance processes, allowing other fuel to be marketed in the affected region in a more efficient manner.

c. Metro-East St. Louis Ozone Nonattainment Area

The state gasoline volatility regulation affecting the Metro-East St. Louis ozone NAA is found at 35 Ill. Adm. Code Section 219.585. The Illinois portion of the Metro-East St. Louis ozone NAA includes Madison, Monroe, St. Clair and Jersey Counties. Section 182(b)(1) of the CAA requires all moderate and above ozone NAAs to achieve a 15 percent reduction of 1990 emissions of VOC by 1996. The Metro-East St. Louis area ozone NAA was subject to this requirement and in order to meet the CAA 15 percent Rate of Progress emissions requirement and to strive for consistency in the fuel across the St. Louis metropolitan area, IEPA proposed, and the Illinois Pollution Control Board adopted, a more stringent gasoline volatility regulation in 1994. This regulation limits the RVP of gasoline sold, offered for sale, dispensed, supplied, offered for supply or transported for use in the Metro-East St. Louis ozone NAA during May 1 through the September 15 control period to 7.2 psi. A 1.0 psi allowance is granted for ethanol blend gasoline having at least 9 percent but not more than 10 percent ethyl alcohol by volume. The Illinois Pollution Control Board adopted an amendment to this regulation which changed the start of regulatory control period from May 1 to June 1 to be consistent with the Federal compliance dates. On March 23, 1995, EPA approved the regulation with the May 1 date as part of the Illinois SIP. 60 FR 15233 (March 23, 1995). On August 12, 1997, EPA approved the revision relating to the change in the regulatory control period to June 1 as part of the Illinois SIP. 62 FR 43100 (August 12, 1997).

As stated above, Section 211(k) of the CAA requires the use of RFG in the nine ozone NAAs having a 1980 population in excess of 250,000 and having the highest ozone design value during the period 1987 through 1989. In addition to these areas which are required to market RFG, state Governors can petition EPA for the inclusion of other NAAs in the RFG program. Accordingly, the State of Illinois requested EPA to extend the requirement for the sale of RFG for the Illinois portion of the Metro-East St. Louis ozone NAA in July 2006. On April 24, 2007, EPA issued a final rule requiring the sale of RFG in the Illinois portion of the Metro-East St. Louis ozone NAA. 72 FR 20237 (April 24, 2007). The required use of RFG for VOC control region 1 (southern areas) in the Illinois portion of the Metro-East St. Louis ozone NAA would achieve additional emissions reductions beyond the 7.2 psi RVP limit for the Metro-East St. Louis ozone NAA and would harmonize the fuel requirements across the region as Missouri had opted-in the RFG program for the St. Louis portion of the ozone NAA in 1999.

Similar to the situation in Chicago, when regional fuel supply shortages occurred and EPA issued a waiver from the RFG requirements to allow the flow of other fuels into the regions, the state had to issue a provisional variance to the volatility regulations for the Metro-East St. Louis ozone NAA in order for the EPA waiver to achieve its intended effect. Repealing the existing gasoline volatility standards for the Metro-East St. Louis ozone NAA, which are less stringent than the RFG standards, results in no loss of emissions reductions benefits, and, in times of regional fuel shortage, would eliminate the RVP SIP waiver and provisional variance processes, allowing other fuels to be marketed in the affected area in a more efficient manner.

d. Clean-up Amendments and Update of Technical References

IEPA has also submitted clean-up amendments to 35 Ill. Adm. Code Parts 211, 215, 218 and 219 to update references and to be consistent with the repeal of the state's gasoline volatility standards. IEPA updated the reference to ASTM D 323 to its current version, ASTM D 323-08, in Section 211.101, and also in the definitions of Heavy Liquid, Section 211.2870, and RVP, Section 211.5510. In addition, IEPA removed the reference to Section 215.105 in the definition of Heavy Liquid, Section 211.2870, because IEPA removed ASTM D 323-82 from Part 215 with this revision.

IEPA also removed the definition of RVP contained in Section 215.104 because this term is only used in Section 215.585, which has been repealed, and is also defined in 35 Ill. Adm. Code Part 211. IEPA also removed ASTM D 323-82, ASTM D 4057, ASTM D 4177, and 40 CFR 80, appendices D, E, and F contained in Section 215.105 because these incorporations by reference are only found in Section 215.585, are outdated, and are no longer necessary with a repeal of the state's gasoline volatility standards.

Further, Illinois removed 40 CFR 80 and 40 CFR 80, appendices D, E, and F contained in Sections 218.112 and 219.112 (Incorporations by Reference) because this Part is no longer necessary with a repeal of Sections 218.585 and 219.585, and the appendices have already been repealed. Also, IEPA has updated the reference to ASTM D-323 in Sections 218.112, 218.128, 219.112, and 219.128 to its current version, ASTM D-323-08, for measuring vapor pressure.

III. What is the background for the motor vehicle refinishing portion of this action?

In 1993, the Chicago and Metro-East St. Louis areas were classified as Severe and Moderate nonattainment, respectively, and as such were subject to the requirement under Section 182(b)(1) of the CAA to reduce VOC emissions within six years after November 15, 1990 by at least 15 percent from baseline emissions. Illinois reviewed available control measures that could provide reductions by 1996 and included motor vehicle refinishing operations in the 15 percent rate of progress plan for both areas.

Illinois' motor vehicle refinishing regulations are found at Subpart HH of 35 Ill. Adm. Code Parts 218 and 219. The regulations require the use of either an electrostatic spray gun or a HVLP spray gun. In addition, these regulations require affected sources to register with the state. Registration includes providing source contact information, descriptions of coating operations, and certain certifications. Irrespective of the registration program, motor vehicle refinishing operations are required to meet the substantive provisions of Subpart HH, which include, among other things, VOC content limitations, coating preparation and applicator requirements, and work practices. EPA approved the motor vehicle refinishing regulations at Subpart HH of 35 Ill. Adm. Code Parts 218 and 219 as part of the Illinois SIP on July 25, 1996. 61 FR 38577 (July 25, 1996).

In 2008, EPA promulgated National Emission Standards for Hazardous Air Pollutants (NESHAP) for Paint Stripping and Miscellaneous Surface Coating Operations at Area Sources (January 9, 2008, 73 FR 1738). These standards are found at 40 CFR 63, subpart HHHHHH. As it relates to surface coating of motor vehicles and mobile equipment, this NESHAP requires that all subject surface coating operations apply coatings with a HVLP spray gun, electrostatic spray gun, airless spray gun, air-assisted airless spray gun, or an equivalent technology demonstrated to be equal in transfer efficiency to one of these spray guns. 40 CFR 63.11173(e)(3). In addition, this NESHAP requires these operations to submit an initial registration notification, an annual notification of changes, and also contains recordkeeping requirements. 40 CFR 63.11175, 63.11176, 63.11177. Proper registration includes providing source contact information, a description of coating operations, and certain certifications. 40 CFR 63.11175.

In Illinois, these registration notifications are submitted to IEPA because it has been delegated authority to implement and enforce this NESHAP. This NESHAP targets sources that the state's motor vehicle refinishing rules target. Irrespective of the NESHAP's registration requirements, subject sources must comply with the substantive portion of this NESHAP, which include, among other things, extensive training, coating preparation and application requirements, coating applicator requirements, management practices, maintenance of equipment requirements and recordkeeping.

IV. What changes have been made to Illinois' motor vehicle refinishing standards?

The State of Illinois submitted amendments to Subpart HH, Motor Vehicle Refinishing, at 35 Ill. Adm. Code Sections 218.784 and 219.784 to allow the use of a new spray gun that is demonstrated to achieve transfer efficiency comparable to a HVLP spray gun. The regulations in Sections 218.784 and 219.784 require the equivalent coating applicator technology to be approved by EPA and documentation of EPA's approval to be maintained at the motor vehicle refinishing operation. This will provide flexibility to affected sources by allowing them to choose an alternate means of compliance that is approved by EPA. Illinois also repealed the registration program at 35 Ill. Adm. Code Sections 218.792 and 219.792 due to the corresponding, overlapping Federal NESHAP registration program already in place. This will streamline the registration of motor vehicle refinishing operations and eliminate source confusion over multiple registrations.

The NESHAP at 40 CFR part 63, subpart HHHHHH targets the sources that Illinois' motor vehicle registration program targets and the registration programs are very similar in what they require. The NESHAP's registration program is more stringent than Illinois' registration program in that it requires an annual notification of any change from the initial registration, which the state's registration program does not require. 40 CFR 63.11176 (2010). Moreover, irrespective of the existence of either registration program, subject motor vehicle refinishing operations must comply with the substantive provisions of both the NESHAP and Illinois' motor vehicle refinishing requirements which contain the applicable control requirements that limit emissions from such operations. Repealing Illinois' registration program and the continued applicability of the NESHAP registration program will streamline registration for motor vehicle refinishing sources and avoid confusion over two separate registration requirements.

V. What is EPA's analysis of the state's submittal?

Our primary consideration for determining the approvability of the Illinois revisions to remove gasoline volatility standards from the SIP is whether these revisions comply with section 110(l) of the CAA. Section 110(l) of the CAA provides that EPA cannot approve a SIP revision if that revision interferes with any applicable requirement regarding attainment and reasonable further progress or any other requirement established in the CAA. The EPA can, however, approve a SIP revision that removes or modifies control measures in the SIP once the state makes a “noninterference” demonstration that such removal or modification will not interfere with attainment of the NAAQS, or any other CAA requirement. Illinois has evaluated the impacts of approving these revisions. The repeal of the ozone attainment area gasoline volatility standards in Section 215.585 would result in no loss of emissions reductions since this section applied to 1991 only. The intent of the rule has been fulfilled through EPA's volatility standards adopted pursuant to section 211(k) of the CAA. The repeal of the Chicago and Metro-East St. Louis gasoline volatility standards under Sections 218.585 and 219.585, respectively, would result in no loss of emissions reductions as the current Federal RFG standards in place in both areas achieve additional emissions reductions benefits beyond the state standards. The equipment specification changes to Illinois' motor vehicle refinishing requirements under Sections 218.784 and 219.784 provide flexibility to affected sources while not increasing emissions by allowing the use of new spray guns that have been demonstrated to achieve transfer efficiency comparable to HVLP spray guns and that have been approved by EPA. Finally, the removal of the state's registration requirements for motor vehicle refinishing operations is not a relaxation, since the Federal NESHAP includes a registration provision requesting similar and additional information than what was required in Illinois' rules. The deletion of the state requirement basically removes a duplicative regulation and decreases the administrative burden on such sources while still providing all the necessary information to IEPA. As noted above, all registration notifications under the NESHAP are submitted to IEPA because it has been delegated authority to implement and enforce the NESHAP.

VI. What action is EPA taking?

EPA is approving the revisions to the Illinois ozone SIP submitted on March 19, 2013, concerning the state's gasoline volatility standards at Section 218.585 for the Chicago ozone NAA and Section 219.585 for the Metro-East St. Louis ozone NAA. Since EPA did not approve the gas volatility standard for 1991 in Section 215.585 as part of the Federally enforceable SIP, EPA cannot approve a SIP revision that repeals this section. Thus, EPA is taking no action on the gas volatility standard for 1991. EPA is also approving amendments to 35 Ill. Adm. Code Parts 211, 215, 218, and 219 to make necessary updates. EPA is also approving amendments to Subpart HH, Motor Vehicle Refinishing, at 35 Ill. Adm. Code Sections 218.784 and 219.784 to allow for the use of HVLP-equivalent spray guns in motor vehicle refinishing operations, and the repeal of the registration program at 35 Ill. Adm. Code Sections 218.792 and 219.792 due to overlapping Federal registration requirements. EPA finds that the revisions will not interfere with any applicable requirement concerning attainment, reasonable further progress or any other applicable CAA requirement.

We are publishing this action without prior proposal because we view this as a noncontroversial amendment and anticipate no adverse comments. However, in the proposed rules section of this Federal Register publication, we are publishing a separate document that will serve as the proposal to approve the state plan if relevant adverse written comments are filed. This rule will be effective December 5, 2014 without further notice unless we receive relevant adverse written comments by November 5, 2014. If we receive such comments, we will withdraw this action before the effective date by publishing a subsequent document that will withdraw the final action. All public comments received will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective December 5, 2014.

VII. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 5, 2014. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Oxides of Nitrogen, Ozone, Volatile organic compounds.

Dated: July 29, 2014.
Susan Hedman,
Regional Administrator, Region 5.

40 CFR part 52 is amended as follows:

PART 52—APPROVAL AND PROMULGATION OF IMPLEMENTATION PLANS

1. The authority citation for part 52 continues to read as follows:

Authority: 42 U.S.C. 7401 et seq.

2. Section 52.720 is amended by adding paragraphs (c)(101)(i)(A)(3), (c)(101)(i)(B)(3), (c)(109)(i)(D), (c)(120)(i)(D), and (c)(201) to read as follows:

§ 52.720 Identification of plan.

* * * * *

(c) * * *

(101) * * *

(i) * * *

(A) * * *

(3) Section 218.585 was repealed in 2013 and is removed without replacement; see paragraph (c)(201) of this section.

(B) * * *

(3) Section 219.585 was repealed in 2013 and is removed without replacement; see paragraph (c)(201) of this section.

* * * * *

(109) * * *

(i) * * *

(D) Section 219.585 was repealed in 2013 and is removed without replacement; see paragraph (c)(201) of this section.

* * * * *

(120) * * *

(i) * * *

(D) Sections 218.792 and 219.792 were repealed in 2013 and are removed without replacement; see paragraph (c)(201) of this section.

* * * * *

(201) On March 19, 2013, the Illinois Environmental Protection Agency submitted a request to repeal the gasoline volatility standards at 35 Ill. Adm. Code 215.585, 218.585, and 219.585, including other related revisions to 35 Ill. Adm. Code Parts 211, 215, 218, and 219, to revise the motor vehicle refinishing equipment specifications at 35 Ill. Adm. Code 218.784 and 219.784, and to repeal the motor vehicle refinishing registration requirements at 35 Ill. Adm. Code 218.792 and 219.792.

(i) Incorporation by reference.

(A) Illinois Administrative Code, Title 35: Environmental Protection, Subtitle B: Air Pollution, Chapter I: Pollution Control Board, Subchapter c: Emission Standards and Limitations for Stationary Sources, Part 211, Definitions and General Provisions, Sections 211.101 Incorporations by Reference, 211.2870 Heavy Liquid, and 211.5510 Reid Vapor Pressure. Effective January 28, 2013.

(B) Illinois Administrative Code, Title 35: Environmental Protection, Subtitle B: Air Pollution, Chapter I: Pollution Control Board, Subchapter c: Emission Standards and Limitations for Stationary Sources, Part 215, Organic Material Emission Standards and Limitations, Sections 215.104 Definitions, and 215.105 Incorporation by Reference. Effective January 28, 2013.

(C) Illinois Administrative Code, Title 35: Environmental Protection, Subtitle B: Air Pollution, Chapter I: Pollution Control Board, Subchapter c: Emission Standards and Limitations for Stationary Sources, Part 218, Organic Material Emission Standards and Limitations for the Chicago Area, Sections 218.112 Incorporations by Reference, 218.128 Monitoring VOL Operations, and 218.784 Equipment Specifications. Effective January 28, 2013.

(D) Illinois Administrative Code, Title 35: Environmental Protection, Subtitle B: Air Pollution, Chapter I: Pollution Control Board, Subchapter c: Emission Standards and Limitations for Stationary Sources, Part 219, Organic Material Emission Standards and Limitations for the Metro East Area, Sections 219.112 Incorporations by Reference, 219.128 Monitoring VOL Operations, and 219.784 Equipment Specifications. Effective January 28, 2013.

[FR Doc. 2014-23767 Filed 10-3-14; 8:45 am]

BILLING CODE 6560-50-P